FEDERAL HOUSING FINANCE AGENCY

[No. 2009-N-05]

Proposed Collection; Comment Request

AGENCY: Federal Housing Finance Agency.

ACTION: 60-Day notice of submission of information collection for approval from the Office of Management and Budget.

SUMMARY: In accordance with the requirements of the Paperwork Reduction Act of 1995, the Federal Housing Finance Agency (FHFA) is seeking public comments concerning a currently approved information collection known as “Federal Home Loan Bank Acquired Member Assets, Core Mission Activities, Investments and Advances,” which has been assigned control 2590-0008 by the Office of Management and Budget (OMB). The FHFA intends to submit the information collection to OMB for review and approval of a three year extension of the control number, which is due to expire on August 31, 2009.

DATES: Interested persons may submit comments on or before July 27, 2009.

Comments: Submit comments to the FHFA using any one of the following methods:

E-mail: regcomments@fhfa.gov. Please include Proposed Collection; Comment Request: Federal Home Loan Bank Acquired Member Assets, Core Mission Activities, Investments and Advances (No. 2009-N-05) in the subject line of the message.

Mail/Hand Delivery: Federal Housing Finance Agency, Fourth Floor, 1700 G Street NW., Washington, DC 20552, ATTENTION: Public Comments/Proposed Collection; Comment Request: Federal Home Loan Bank Acquired Member Assets, Core Mission Activities, Investments and Advances (No. 2009-N-05).

Federal eRulemaking Portal: http://www.regulations.gov. Follow the instructions for submitting comments.

We will post all public comments we receive without change, including any personal information you provide, such as your name and address, on the FHFA Web site at http://www.fhfa.gov.

FOR FURTHER INFORMATION CONTACT: David L. Roderer, Senior Financial Analyst at 202-408-2540 (not a toll-free number), david.l.roderer@fhfa.gov. The telephone number for the Telecommunications Device for the Deaf is 800-877-8339.

SUPPLEMENTARY INFORMATION:

A. Need for and Use of the Information Collection

The FHFA has authorized the Federal Home Loan Banks (Banks) to acquire mortgage loans and other assets from their members or housing associates under certain circumstances. 12 CFR part 955. The regulation refers to these assets as acquired member assets or AMA. As part of this regulatory authorization, each Bank that acquires residential mortgage loans must provide to the FHFA certain loan-level data on a quarterly basis. The reporting requirements, which previously were in 12 CFR part 955 (specifically, section 955.4 and Appendices A and B), currently are contained in the FHFA Data Reporting Manual. The FHFA uses this data to monitor the safety and soundness of the Banks and the extent to which the Banks are fulfilling their statutory housing finance mission through their AMA programs. See 12 U.S.C. 1422a(a).

While the Banks provide the AMA data directly to the FHFA, each Bank initially must collect the information from the private-sector member or housing associate from which the Bank acquires the mortgage loan. Bank members and housing associates already collect the vast majority of the data the FHFA requires in order to do business with the Federal National Mortgage Association (Fannie Mae) and the Federal Home Loan Mortgage Corporation (Freddie Mac) under regulatory requirements issued by the Department of Housing and Urban Development (HUD) and pursuant to the information collection requirements under the Home Mortgage Disclosure Act (HMDA). Thus, the FHFA's information collection imposes only a minor incremental additional burden on Bank members and housing associates.

The OMB control number for the information collection, which expires on August 31, 2009, is 2590-0008. The likely respondents are institutions that sell AMA assets to Banks.

B. Burden Estimate

The FHFA estimates that the hour burden associated with the AMA collection is little changed. More institutions are participating in the AMA program, but the average report size has gone down dramatically. The FHFA estimates the total annual average number of respondents at 750, with 4 responses per respondent. The estimate for the average hours per response is 12 hours. The estimate for the total annual hour burden is 36,000 hours (750 respondents × 4 responses per respondent × 12 hours).

Bank members could incur additional one-time costs to be able to collect and report additional loan-level data elements. The FHFA estimates this additional, one-time cost at $150,000 ($2,000 × 750 members).

C. Comment Request

The FHFA requests written comments on the following: (1) Whether the collection of information is necessary for the proper performance of FHFA functions, including whether the information has practical utility; (2) the accuracy of the FHFA estimates of the burdens of the collection of information; (3) ways to enhance the quality, utility and clarity of the information collected; and (4) ways to minimize the burden of the collection of information, including through the use of automated collection techniques or other forms of information technology.

Dated: May 21, 2009.
James B. Lockhart III,
Director, Federal Housing Finance Agency.

[FR Doc. E9-12401 Filed 5-27-09; 8:45 am]

BILLING CODE 8070-01-P